DEPARTMENT OF ENERGY

Energy Information Administration

Notice; Energy Information Administration Surveys Conducted in Accordance With the Provisions of the Confidential Information Protection and Statistical Efficiency Act of 2002

AGENCY: Energy Information Administration (EIA), Department of Energy (DOE).

ACTION: Notice; Energy Information Administration surveys conducted in accordance with the provisions of the Confidential Information Protection and Statistical Efficiency Act of 2002.

SUMMARY: The Energy Information Administration (EIA) is announcing those surveys that are being designated to collect information in accordance with the Confidential Information Protection and Statistical Efficiency Act of 2002 (CIPSEA) (title 5 of Public Law 107-347). Survey information collected in accordance with CIPSEA is treated as confidential and should not be disclosed in identifiable form for any use other than an exclusively statistical purpose, except with the informed consent of the respondent. As defined in CIPSEA section 502, the term statistical purpose “(A) means the description, estimation, or analysis of the characteristics of groups, without identifying the individuals or organizations that comprise such groups; and (B) includes the development, implementation, or maintenance of methods, technical or administrative procedures, or information resources that support the purposes described in subparagraph (A).” Without a survey respondent's informed consent, information collected in accordance with CIPSEA should not be used in identifiable form for any purpose that is not a statistical purpose, including any administrative, regulatory, law enforcement, adjudicatory, or other purpose that affects the rights, privileges, or benefits of a particular identifiable respondent. Also, such survey information should not be disclosed under section 552 of Title 5, United States Code (popularly known as the Freedom of Information Act).

DATES: Comments must be filed by March 18, 2004.

ADDRESSES: Requests for additional information or comments about this action should be directed to Jay Casselberry. Contact by FAX (202-287-1705), e-mail (jay.casselberry@eia.doe.gov), or telephone (202-287-1717) is recommended to expedite receipt and response. The mailing address is Statistics and Methods Group (ATTN: Jay Casselberry), EI-70, Forrestal Building, U.S. Department of Energy, 1000 Independence Ave., SW., Washington, DC 20585.

FOR FURTHER INFORMATION CONTACT: Requests for additional information should be directed to Mr. Casselberry at the address listed above.

SUPPLEMENTARY INFORMATION:

I. Background

II. Current Actions

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA provides the public and other Federal agencies with opportunities to comment on collections of energy information conducted by EIA. As appropriate, EIA also requests comments on important issues relevant to the dissemination of energy information. Comments received help the EIA when preparing information collections and information products necessary to support EIA's mission.

EIA currently conducts the surveys listed below in accordance with CIPSEA. Unless noted otherwise, all survey elements are collected under CIPSEA.

• EIA-28, Financial Reporting System;

• EIA-851A, Domestic Uranium Production Report—Annual (majority of survey elements collected in accordance with CIPSEA);

• EIA-851Q, Domestic Uranium Production Report—Quarterly (majority of survey elements collected in accordance with CIPSEA);

• EIA-858, Uranium Marketing Annual Survey (majority of survey elements collected in accordance with CIPSEA);

• EIA-863, Petroleum Product Sales Identification Survey;

• EIA-871, Commercial Buildings Energy Consumption Survey;

• EIA-878, Motor Gasoline Price Survey;

• EIA-888, On-Highway Diesel Fuel Price Survey.

Beginning with the next reporting period after April 1, 2004, EIA will conduct the additional surveys listed below in accordance with CIPSEA:

• EIA-457, Residential Energy Consumption Survey;

• EIA-910, Monthly Natural Gas Marketers Survey;

• EIA-912, Weekly Underground Natural Gas Storage Report.

In addition to publishing this notice, EIA will notify the persons and companies selected for inclusion in the affected surveys that the information will be considered as confidential, used for exclusively statistical purposes, and treated in accordance with CIPSEA.

II. Current Actions

EIA announces that surveys EIA-28, 457, 851A, 851Q, 858, 863, 871, 878, 888, 910, and 912 have been designated to collect information in accordance with the Confidential Information Protection and Statistical Efficiency Act of 2002 (CIPSEA) (title 5 of Pub. L. 107-347). Survey information collected in accordance with CIPSEA is treated as confidential and is not disclosed in identifiable form for any use other than an exclusively statistical purpose, except with the informed consent of the respondent.

In the future EIA may modify the list of surveys designated to collect information in accordance with CIPSEA. Any changes will be addressed in Federal Register notices, and cleared with the Office of Management and Budget through the processes of the Paperwork Reduction Act of 1995 (Pub. L. 104-13).

Statutory Authority: Section 52 of the Federal Energy Administration Act (Pub. L. 93-275, 15 U.S.C. 790a).

Issued in Washington, DC, February 10, 2004.
Jay H. Casselberry,
Agency Clearance Officer, Statistics and Methods Group, Energy Information Administration.

[FR Doc. 04-3342 Filed 2-13-04; 8:45 am]

BILLING CODE 6450-01-P